FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 012174-001.

Title: Hoegh/Liberty Middle East Space Charter Agreement.

Parties: Hoegh Autoliners AS and Liberty Global Logistics LLC.

Filing Party: Brooke Shapiro, Esq., Winston & Strawn LLP, 200 Park Avenue, New York, NY 10166.

Synopsis: The amendment adds Spain to the geographic scope of the Agreement.

Agreement No.: 012233-003.

Title: COSCON/CSCL/UASC/YMUK/CMA CGM/PIL Vessel Sharing and Slot Exchange Agreement—Asia and US/Canada West Coast Services.

Parties: China Shipping Container Lines Co., Ltd. and China Shipping Container Lines (Hong Kong) Co., Ltd. (acting as a single party) (CSCL); United Arab Shipping Company (S.A.G.); Yang Ming (UK) LTD.; CMA CGM S.A.; Pacific International Lines (Pte) Ltd.; and COSCO Container Lines Company, Limited (COSCON).

Filing Party: Brett M. Esber, Blank Rome LLP, 600 New Hampshire Ave. NW., Washington, DC 20037.

Synopsis: The amendment adds COSCON as a party to the Agreement, and provides that upon the transfer by CSCL of its liner shipping business to COSCON, all of CSCL's rights and obligations under the Amendment Agreement will be assigned to COSCON and CSCL will be deemed to have withdrawn as a party to the Agreement.

Agreement No.: 012299-001.

Title: COSCON/CSCL/UASC/CMA CGM Vessel Sharing and Slot Exchange Agreement, Asia—U.S. West/East/Gulf Coasts.

Parties: China Shipping Container Lines Co. Ltd. and China Shipping Container Lines (Hong Kong) Co., Ltd. (collectively known as China Shipping) (CSCL); United Arab Shipping Company S.A.G.; CMA CGM S.A.; and COSCO Container Lines Company, Limited (COSCON).

Filing Party: Brett M. Esber, Esq., Blank Rome, 600 New Hampshire Avenue NW., Washington, DC 20037.

Synopsis: The amendment adds COSCON as a party to the Agreement, and provides that upon the transfer by CSCL of its liner shipping business to COSCON, all of CSCL's rights and obligations under the Amendment Agreement will be assigned to COSCON and CSCL will be deemed to have withdrawn as a party to the Agreement.

Agreement No.: 012326-001.

Title: COSCON/CSCL/HSD Slot Charter Agreement.

Parties: China Shipping Container Lines Co., Ltd. and China Shipping Container Lines (Hong Kong) Co., Ltd. (acting as a single party) (CSCL); Hamburg Sud; and COSCO Container Lines Company, Limited (COSCON).

Filing Party: Brett M. Esber, Blank Rome LLP, 600 New Hampshire Ave. NW., Washington, DC 20037.

Synopsis: The amendment adds COSCON as a party to the Agreement, and provides that upon the transfer by CSCL of its liner shipping business to COSCON, all of CSCL's rights and obligations under the Amendment Agreement will be assigned to COSCON and CSCL will be deemed to have withdrawn as a party to the Agreement.

Agreement No.: 012328-001.

Title: COSCON/CSCL/CMA CGM/UASC/HSD Vessel Sharing Agreement.

Parties: China Shipping Container Lines Co. Ltd. and China Shipping Container Lines (Hong Kong) Co., Ltd. (collectively known as China Shipping) (CSCL); United Arab Shipping Company S.A.G.; CMA CGM S.A.; Hamburg Sud; and COSCO Container Lines Company, Limited (COSCON).

Filing Party: Brett M. Esber, Esquire, Blank Rome LLP, 600 New Hampshire Avenue NW., Washington, DC 20037.

Synopsis: The amendment adds COSCON as a party to the Agreement, and provides that upon the transfer by CSCL of its liner shipping business to COSCON, all of CSCL's rights and obligations under the Amendment Agreement will be assigned to COSCON and CSCL will be deemed to have withdrawn as a party to the Agreement.

Agreement No.: 012329-001.

Title: COSCON/CSCL/HSD Slot Exchange Agreement.

Parties: China Shipping Container Lines Co., Ltd.; China Shipping Container Lines (Hong Kong) Co., Ltd. (Collectively, CSCL); Hamburg Sudamerikanische Dampfschifffahrts-Gesellschaft KG; COSCO Container Lines Company, Limited (COSCON).

Filing Party: Brett M. Esber, Esq., Blank Rome, 600 New Hampshire Avenue NW., Washington, DC 20037.

Synopsis: The amendment adds COSCON as a party to the Agreement, and provides that upon the transfer by CSCL of its liner shipping business to COSCON, all of CSCL's rights and obligations under the Amendment Agreement will be assigned to COSCON and CSCL will be deemed to have withdrawn as a party to the Agreement.

Agreement No.: 012389-001.

Title: Grimaldi/Liberty Global Logistics LLC Space Charter Agreement.

Parties: Grimaldi Euromed S.P.A. and Liberty Global Logistics LLC.

Filing Parties: Brooke Shapiro, Esq., Winston & Strawn LLP, 200 Park Avenue, New York, NY 10166.

Synopsis: The amendment would authorize the parties to charter space to/from one another in the trade between the U.S., Mexico and Canada on the one hand and Jordan on the other hand.

Agreement No.: 012392.

Title: K-Line/Liberty Global Logistics LLC Discussion Agreement.

Parties: Kawasaki Kisen Kaisha, Ltd.; and Liberty Global Logistics LLC.

Filing Party: John P. Meade, Esq., General Counsel, K-Line America, Inc., 6199 Bethlehem Road, Preston, MD 21655.

Synopsis: The agreement would authorize the parties to discuss non-rate operational matters worldwide.

Agreement No.: 012393.

Title: CMA CGM/ELJSA Vessel Sharing Agreement Asia—U.S. West Coast.

Parties: Evergreen Line Joint Service Agreement and CMA CGM S.A.

Filing Party: Paul M. Keane, Esq., Cichanowicz, Callan, Keane & DeMay, LLP, 50 Main Street, Suite 1045, White Plains, NY 10606.

Synopsis: The Agreement authorizes the parties to cooperate and establish a new weekly service in the trade between ports on the U.S. West Coast and ports in China and Japan.

By Order of the Federal Maritime Commission.
Dated: February 26, 2016.
Rachel E. Dickon,
Assistant Secretary.

[FR Doc. 2016-04586 Filed 3-1-16; 8:45 am]

BILLING CODE 6731-AA-P